DEPARTMENT OF HEALTH AND HUMAN SERVICES

Administration for Children and Families

Grant to Forty-Nine Community Services State Associations; Office of Community Services

AGENCY: Office of Community Services, ACF, HHS.

ACTION: Notice to award grant awards.

CFDA Number: 93.570.

SUMMARY: Notice is hereby given that awards will be made to forty-nine Community Services State Associations (CAA), in the amount of $65,000 each for ongoing capacity-building within the Community Services Network of Federal, State and local organizations to continue their work of addressing CSBG program needs. State CAA Associations have developed a shared vision for addressing the causes and effects of poverty; established a framework to convene fragmented programs across State and local governments; and utilized technological advances to better serve communities and track program successes. The period of this funding will extend from September 30, 2007 through September 29, 2008.

FOR FURTHER INFORMATION CONTACT: Peter Thompson, Office of Community Services, Administration for Children and Families, 370 L'Enfant Promenade, SW., Washington, DC 20447, Telephone: 202-401-4608, E-mail: peter.thompson@acf.hhs.gov.

Dated: July 2, 2007.
Yolanda J. Butler,
Deputy Director, Office of Community Services.

[FR Doc. E7-13151 Filed 7-6-07; 8:45 am]

BILLING CODE 4184-01-P